FEDERAL MARITIME COMMISSION

[Docket No. 20-09]

MAC Industries, Inc. d/b/a MAC Container Line, Complainant v. COSCO SHIPPING Lines Co., Ltd., Respondent; Notice of Filing of Complaint and Assignment

Served: June 9, 2020.

Notice is given that a complaint has been filed with the Federal Maritime Commission (Commission) by MAC Industries, Inc. d/b/a MAC Container Line, hereinafter “Complainant”, against COSCO SHIPPING Lines Co., Ltd., hereinafter “Respondent”. Complainant states that it “is a non-vessel-operating common carrier (“NVOCC”)” and is principally located in California. Complainant states that Respondent is an ocean common carrier and controlled carrier of The Peoples Republic of China.

Complainant claims it “has shipped pursuant to COSCO service contracts between 8,000 and 12,000 TEUs annually since 2016, to the present, and as a result of these volumes MAC has earned a VIP Partner status with COSCO since 2013.” Complainant alleges that in late February 2020, Respondent intended to unilaterally amend service contract rates in violation of 46 U.S. Code 41104 (a) (2)(A) and 46 CFR 530.10(a)(1) “requir[ing] that an amendment to a service contract `. . . [have] prospective effect and . . . [be] mutually agreed upon by the service contract parties.' ” Complainant claims that it communicated to Respondents “that it would accept the rate increases prospectively from on or about February 28, 2020, provided that [Respondent] agreed to withdraw the unlawful retroactive charges which [Respondent] had unilaterally and unlawfully initiated.” Complainant further alleges that Respondent “has taken retaliatory steps against MAC in response to the complaint” including limiting its VIP Partner benefits.

Complainant alleges that Respondent violated 46 U.S.C. 41104 (a)(3). Complainant alleges it has suffered “financial damages of at least $1,000,000 as a direct result of Respondents' repeated violations of 46 U.S.C. 8 § 41l04(a)(3)” and seeks reparations and other relief.

The full text of the complaint can be found in the Commission's Electronic Reading Room at https://www2.fmc.gov/readingroom/proceeding/20-09/.

This proceeding has been assigned to Office of Administrative Law Judges. The initial decision of the presiding office in this proceeding shall be issued by June 9, 2021, and the final decision of the Commission shall be issued by December 9, 2021.

Rachel Dickon,
Secretary.

[FR Doc. 2020-12829 Filed 6-12-20; 8:45 am]

BILLING CODE 6730-02-P